DEPARTMENT OF ENERGY

Federal Energy Regulatory Commission

Combined Notice of Filings No. 2

August 12, 2009.

Take notice that the Commission has received the following Natural Gas Pipeline Rate and Refund Report filings:

Docket Numbers: RP09-758-002.

Applicants: Southern Star Central Gas Pipeline, Inc.

Description: Southern Star Central Gas Pipeline, Inc submits Sub. First Revised Sheet 149 et al. of its FERC Gas Tariff, Original Volume 1, to be effective 7/10/09.

Filed Date: 08/10/2009.

Accession Number: 20090810-0042.

Comment Date: 5 p.m. Eastern Time on Monday, August 24, 2009.

Docket Numbers: RP09-790-001.

Applicants: MIGC LLC.

Description: MIGC LLC submits Substitute First Revised Sheet No. 90A to its FERC Gas Tariff, Second Revised Volume No 1.

Filed Date: 08/10/2009.

Accession Number: 20090811-0071.

Comment Date: 5 p.m. Eastern Time on Monday, August 24, 2009.

Docket Numbers: RP09-863-001.

Applicants: Columbia Gas Transmission, LLC.

Description: Columbia Gas Transmission, LLC submits Sixth Revised Sheet No. 503 et al. to its FERC Gas Tariff, Third Revised Volume No 1.

Filed Date: 08/10/2009.

Accession Number: 20090810-0043.

Comment Date: 5 p.m. Eastern Time on Monday, August 24, 2009.

Docket Numbers: RP96-200-226.

Applicants: CenterPoint Energy Gas Transmission Company.

Description: CenterPoint Energy Gas Transmission Company submits amended negotiated rate agreements between CEGT and CenterPoint Energy Services, Inc et al.

Filed Date: 08/10/2009.

Accession Number: 20090811-0070.

Comment Date: 5 p.m. Eastern Time on Monday, August 24, 2009.

Docket Numbers: RP96-200-227.

Applicants: CenterPoint Energy Gas Transmission Comp.

Description: CenterPoint Energy Gas Transmission Company submits amended negotiated rate agreement between CEGT and Enbridge Marketing, LP.

Filed Date: 08/10/2009.

Accession Number: 20090811-0069.

Comment Date: 5 p.m. Eastern Time on Monday, August 24, 2009.

Docket Numbers: RP96-200-228.

Applicants: CenterPoint Energy Gas Transmission Comp.

Description: CenterPoint Energy Gas Transmission Company submits amended negotiated rate agreement between CEGT and Laclede Energy Resources, Inc.

Filed Date: 08/10/2009.

Accession Number: 20090811-0068.

Comment Date: 5 p.m. Eastern Time on Monday, August 24, 2009.

Docket Numbers: RP09-679-002.

Applicants: Wyckoff Gas Storage Company, LLC.

Description: Wyckoff Gas Storage Co, LLC submits Second Substitute First Revised Sheet 31 to FERC Gas Tariff, Original Volume 1 in compliance with FERC's letter order issued on 7/13/09, to be effective 8/1/09.

Filed Date: 08/11/2009.

Accession Number: 20090811-0110.

Comment Date: 5 p.m. Eastern Time on Monday, August 24, 2009.

Docket Numbers: RP09-855-001.

Applicants: Natural Gas Pipeline Company of America.

Description: Natural Gas Pipeline Company of America LLC submits Substitute First Revised Sheet No. 605 to its FERC Gas Tariff, Seventh Revised Volume No. 1.

Filed Date: 08/11/2009.

Accession Number: 20090811-0117.

Comment Date: 5 p.m. Eastern Time on Monday, August 24, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please email FERCOnlineSupport@ferc.gov, or call (866) 208-3676 (toll free). For TTY, call (202) 502-8659.

Nathaniel J. Davis, Sr.,
Deputy Secretary.

[FR Doc. E9-19934 Filed 8-19-09; 8:45 am]

BILLING CODE 6717-01-P